DEPARTMENT OF HOUSING AND URBAN DEVELOPMENT

[Docket No. FR-5909-N-44]

30-Day Notice of Proposed Information Collection: HUD-Administered Small Cities Program Performance Assessment Report

AGENCY: Office of the Chief Information Officer, HUD.

ACTION: Notice.

SUMMARY: HUD is seeking approval from the Office of Management and Budget (OMB) for renewal of the information collection described below. In accordance with the Paperwork Reduction Act, HUD is requesting comment from all interested parties on the proposed collection of information. The purpose of this notice is to allow for 60 days of public comment.

DATES: Comments Due Date: July 29, 2016.

ADDRESSES: Interested persons are invited to submit comments regarding this proposal. Comments should refer to the proposal by name and/or OMB Control Number and should be sent to: Anna P. Guido, Reports Management Officer, QDAM, Department of Housing and Urban Development, 451 7th Street SW., Room 4176, Washington, DC 20410-5000; telephone 202-402-5535 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW., Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for renewal of the information collection described in Section A.

The Federal Register notice that solicited public comment on the information collection for a period of 60 days was published on April 14, 2016 at 81 FR 22103.

A. Overview of Information Collection

Title of Information Collection: HUD-Administered Small Cities Program Performance. Assessment Report.

OMB Control Number: 2506-0020.

Type of Request: Revision of a currently approved collection.

Form Number: HUD-4052.

Description of the need for the information and proposed use: The information collected from grant recipients participating in the HUD-administered CDBG program provides HUD with financial and physical development status of each activity funded. These reports are used to determine grant recipient performance.

Respondents (i.e., affected public): This information collection applies solely to local governments in New York State that have HUD-administered CDBG grants that remain open or continue to generate program income.

Estimated Number of Respondents: 40.

Estimated Number of Responses: 40.

Frequency of Response: Annually.

Average Hours per Response: 4.

Total Estimated Burdens: 160.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comments in response to these questions.

Authority: Section 3507 of the Paperwork Reduction Act of 1995, 44 U.S.C. Chapter 35.

Dated: June 22, 2016.
Anna P. Guido,
Department Paperwork Reduction Act Officer, Office of the Chief Information Officer.

[FR Doc. 2016-15422 Filed 6-28-16; 8:45 am]

BILLING CODE 4210-67-P